DEPARTMENT OF JUSTICE

Drug Enforcement Administration

[Docket No. DEA-1357]

Bulk Manufacturer of Controlled Substances Application: Pharmaron Manufacturing Services (US) LLC; Correction

AGENCY: Drug Enforcement Administration, Justice.

ACTION: Notice; correction.

SUMMARY: The Drug Enforcement Administration (DEA) published a document in the Federal Register on May 6, 2024, concerning an application for a Bulk Manufacturer of Controlled Substances. A request was made for the removal of the following information: “The company plans to bulk manufacture the listed controlled substances for the purpose of producing material for clinical trials.” Please correct notice to read as follows as stated under Supplementary Information.

SUPPLEMENTARY INFORMATION:

Correction

In the Federal Register on May 6, 2024, in FR Doc. 2024-09805, (89 FR 37260), 37260-37261 (2 pages). The purpose is to manufacture bulk noroxymorphone as an intermediate product to be sold to a customer who will indicate a Contract Manufacturer Organization (CMO), which the material will be shipped to, to be converted to a non-controlled substance. Oxymorphone (9652) will be used as a starting material to be converted to Noroxymorphone (9668).

No other activities for these drug codes are authorized for this registration.

Controlled substance | Drug code | Schedule
Oxymorphone | 9652 | II
Noroxymorphone | 9668 | II

Marsha L. Ikner,
Acting Deputy Assistant Administrator.

[FR Doc. 2024-11746 Filed 5-28-24; 8:45 am]

BILLING CODE 4410-09-P